SECURITIES AND EXCHANGE COMMISSION

Submission for OMB Review; Comment Request

Upon Written Request, Copies Available From: Securities and Exchange Commission Office of Filings and Information Services Washington, DC 20549.

Extension: Rule 204-3, SEC File No. 270-42, OMB Control No. 3235-0047

Notice is hereby given that pursuant to the Paperwork Reduction Act of 1995 (44 U.S.C 3501 et seq.) the Securities and Exchange Commission (“Commission”) has submitted to the Office of Management and Budget request for extension of the previously approved collection of information discussed below.

Rule 204-3 requires an investment adviser to deliver, or offer, to prospective clients a disclosure statement, or “brochure,” containing specified information as to the business practices and background of the adviser. The rule also requires that an investment adviser deliver, or offer, its brochure on an annual basis to existing clients. Investors use this information to determine whether to retain or continue to employ the investment adviser. There are currently approximately 8,300 investment advisers subject to this rule; the estimated burden resulting from the rule is 203,350 total annual hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10202, New Executive Office Building, Washington, D.C. 20503; and (ii) Michael E. Bartell, Associate Executive Director, Office of Information Technology, Securities and Exchange Commission, 450 Fifth Street, N.W., Washington, D.C. 20549. Comments must be submitted to OMB within 30 days of this notice.

Dated: February 22, 2000.
Margaret H. McFarland,
Deputy Secretary.

[FR Doc. 00-4850 Filed 2-29-00; 8:45 am]

BILLING CODE 8010-01-M